UNIFORMED SERVICES UNIVERSITY OF THE HEALTH SCIENCES

Sunshine Act Meeting

Agency Holding the Meeting: Uniformed Services University of the Health Sciences.

Time and Date: 8 a.m. to 4 p.m., February 3, 2004.

Place: Uniformed Services University of the Health Sciences, Board of Regents Conference Room (D3001), 4301 Jones Bridge Road, Bethesda, MD 20814-4799

Status: Open—under “Government in the Sunshine Act” (5 U.S.C. 552b(e)(3)).

Matters To Be Considered:

8 a.m. Meeting—Board of Regents

(1) Approval of Minutes—November 4, 2003

(2) Faculty Matters

(3) Departmental Reports

(4) Financial Report

(5) Report—President, USUHS

(6) Report—Dean, School of Medicine

(7) Report—Dean, Graduate School of Nursing

(8) Comments—Chairman, Board of Regents

(9) New Business

For Further Information Contact:

Mr. Charles R. Mannix,

Executive Secretary, Board of Regents,

(301) 295-3981.

Dated: January 14, 2004.
Patricia L. Toppings,
Alternate OSD Federal Register Liaison Officer, Department of Defense.

[FR Doc. 04-1260 Filed 1-15-04; 8:45 am]

BILLING CODE 5001-06-M